INTERNATIONAL TRADE COMMISSION

[Investigation Nos. 701-TA-607 and 731-TA-1417 and 1419 (Review)]

Steel Propane Cylinders From China and Thailand

Determinations

On the basis of the record ¹ developed in the subject five-year reviews, the United States International Trade Commission (“Commission”) determines, pursuant to the Tariff Act of 1930 (“the Act”), that revocation of the countervailing duty order on steel propane cylinders from China and the antidumping duty orders on steel propane cylinders from China and Thailand would be likely to lead to continuation or recurrence of material injury to an industry in the United States within a reasonably foreseeable time.

¹ The record is defined in § 207.2(f) of the Commission's Rules of Practice and Procedure (19 CFR 207.2(f)).

Background

The Commission instituted these reviews on July 1, 2024 (89 FR 54531), and determined on October 4, 2024, that it would conduct full reviews (89 FR 84193, October 21, 2024). Notice of the scheduling of the Commission's reviews and of a public hearing to be held in connection therewith was given by posting copies of the notice in the Office of the Secretary, U.S. International Trade Commission, Washington, DC, and by publishing the notice in the Federal Register on December 31, 2024 (89 FR 107162). The Commission conducted its hearing on May 1, 2025. All persons who requested the opportunity were permitted to participate.

The Commission made these determinations pursuant to section 751(c) of the Act (19 U.S.C. 1675(c)). It completed and filed its determinations in these reviews on June 26, 2025. The views of the Commission are contained in USITC Publication 5638 (June 2025), entitled Steel Propane Cylinders from China and Thailand: Investigation Nos. 701-TA-607 and 731-TA-1417 and 1419 (Review).

By order of the Commission.
Issued: June 26, 2025.
Lisa Barton,
Secretary to the Commission.

[FR Doc. 2025-12227 Filed 6-30-25; 8:45 am]

BILLING CODE 7020-02-P